DEPARTMENT OF COMMERCE

National Oceanic and Atmospheric Administration

Proposed Information Collection; Comment Request; Gulf of Alaska Ecosystem Indicator Selection

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 1, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Stephani Zador, (206) 526-4693) or stephani.zador@noaa.gov.

SUPPLEMENTARY INFORMATION:

I. Abstract

This request is for a new information collection.

The goal of this project is to select a short (8-10) list of ecosystem indicators for the Gulf of Alaska that will form the basis of a Gulf of Alaska (GOA) Report Card and Ecosystem Assessment to include in the NOAA's Ecosystem Considerations report. This report is produced annually as part of the Stock Assessment and Fishery Evaluation report for the North Pacific Fishery Management Council. The format of the new GOA Report Card and Ecosystem Assessment will be similar to those that have been produced in recent years for the eastern Bering Sea and Aleutian Islands.

The primary recipients, considered to be the stakeholders, of the Report Card and Ecosystem Assessment are those involved with the fishery quota-setting process for the North Pacific Fisheries Management Council. This includes the Science and Statistical Committee and the regional Plan Teams, which of are composed of mainly federal and state scientists, academics, and other individuals. Additional recipients include the Advisory Panel, Council, and stock assessment scientists. The Report Card and Ecosystem Assessment are also made available to the public.

For the purposes of this project, ecosystem indicators are defined as time-series of data that measure some component of the ecosystem. Hundreds of indicators are available for the GOA, which is defined as the Canadian-US boundary at Dixon Entrance to the east and False Pass to the west. During a workshop in 2010, a group of largely scientists and some fisheries managers with expertise in the eastern Bering Sea ecosystem selected 10 indicators to best represent trends in productivity in the eastern Bering Sea. In 2011, a more diverse group including a commercial fisherman and conservation non-governmental organization representative met in a similar workshop format to select 8 ecosystem indicators for the Aleutian Islands that best characterized trends in variability throughout the ecosystem. For the GOA, we hope to increase the group size and diversity in GOA expertise of the participants in the indicator selection process by soliciting information individually via an online survey. The main objective of the survey is to have participants rank the importance of ecosystem indicators among lists of indicators that are presented; the surveys will then be compiled to generate a list of top indicators. We have developed a non-exhaustive list of about 75 ecosystem indicators that are grouped by categories based on ecosystem components, such as forage fish or seabirds. Participants will be asked to select the top three within each category, then the top ten among all categories. Space is provided for suggestions of additional indicators not included. We will use these rankings to form the basis of a new GOA report card and ecosystem assessment. We hope that by surveying a greater number of individuals than were involved with indicator selection for the eastern Bering Sea and Aleutian Islands, the survey results will reflect broader expertise and an `equal voice' from all participants.

The GOA is characterized by topographical complexity, including: Islands; deep sea mounts; continental shelf interrupted by large gullies; and varied and massive coastline features such as the Cook Inlet, Prince William Sound, Copper River, and Cross Sound, which bring both freshwater and nutrients into the GOA. The topographical complexity leads to ecological complexity, such that species richness and diversity differ from the western to eastern GOA. Thus, local effects of ecosystem drivers may swamp basin-wide signals. With this in mind, we hope to create a short list of ecosystem indicators that best reflect the complexity of the GOA.

II. Method of Collection

Respondents will be asked to fill out an online survey.

III. Data

OMB Control Number: 0648-xxxx.

Form Number: None.

Type of Review: Regular submission (request for a new information collection).

Affected Public: Individuals or households; non-profit institutions; State, local, or tribal government; business or other for-profit organizations.

Estimated Number of Respondents: 100.

Estimated Time Per Response: 30 minutes.

Estimated Total Annual Burden Hours: 50.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 28, 2014.
Gwellnar Banks,
Management Analyst, Office of the Chief Information Officer.

[FR Doc. 2014-12668 Filed 5-30-14; 8:45 am]

BILLING CODE 3510-22-P